NUCLEAR REGULATORY COMMISSION

10 CFR Chapter I

[NRC-2013-0076]

Unified Agenda of Federal Regulatory and Deregulatory Actions

AGENCY: Nuclear Regulatory Commission.

ACTION: Semiannual regulatory agenda.

SUMMARY: The U.S. Nuclear Regulatory Commission (NRC) is publishing its semiannual regulatory agenda (the Agenda) in accordance with Public Law 96-354, “The Regulatory Flexibility Act,” and Executive Order 12866, “Regulatory Planning and Review.” The Agenda is a compilation of all rules on which the NRC has recently completed action or has proposed or is considering action. This issuance of the NRC's Agenda contains 56 rulemaking activities: Four are Economically Significant; 12 represent Other Significant agency priorities; 38 are Substantive, Nonsignificant rulemaking activities; and two are Administrative rulemaking activities. This issuance updates any action occurring on rules since publication of the last semiannual regulatory agenda on January 8, 2013 (78 FR 1704). The NRC is requesting comment on its rulemaking activities as identified in this agenda.

DATES: Submit comments on this agenda by August 22, 2013.

ADDRESSES: Submit comments on any rule in the agenda by the date and methods specified in the proposed rule notice. Comments received on rules for which the comment period has closed will be considered if it is practical to do so, but assurance of consideration cannot be given except as to comments received on or before the closure dates specified in the Agenda. You may submit comments on this agenda through the Federal Rulemaking Web site by going to http://www.regulations.gov and searching for Docket ID NRC-2013-0076. Address questions about NRC dockets to Carol Gallagher; telephone: 301-492-3668; email: Carol.Gallagher@nrc.gov. For technical questions, contact the individual listed under the heading “Agency Contact” for that rule.

For additional direction on accessing information and submitting comments, see “Accessing Information and Submitting Comments” in the SUPPLEMENTARY INFORMATION section of this document.

FOR FURTHER INFORMATION CONTACT: Cindy Bladey, Chief, Rules, Announcements and Directives Branch, Division of Administrative Services, Office of Administration, U.S. Nuclear Regulatory Commission, Washington, DC 20555-0001, telephone: 301-492-3667; email: Cindy.Bladey@nrc.gov. Persons outside the Washington, DC, metropolitan area may call toll-free: 1-800-368-5642. For further information on the substantive content of any rule listed in the agenda, contact the individual listed under the heading “Agency Contact” for that rule.

SUPPLEMENTARY INFORMATION:

Accessing Information and Submitting Comments

A. Accessing Information

Please refer to Docket ID NRC-2013-0076 when contacting the NRC about the availability of information for this document. You may access information related to this document, which the NRC possesses and is publicly available, by any of the following methods:

• Federal Rulemaking Web site: Go to http://www.regulations.gov and search for Docket ID NRC-2013-0076.

• NRC's Public Web site: Go to http://www.nrc.gov/reading-rm/doc-collections/rulemaking-ruleforum/unified-agenda.html and select spring 2013.

• NRC's Public Document Room: You may examine and purchase copies of public documents at the NRC's PDR, Room O1-F21, One White Flint North, 11555 Rockville Pike, Rockville, Maryland 20852.

B. Submitting Comments

Please include Docket ID NRC-2013-0076 in the subject line of your comment submission in order to ensure that the NRC is able to make your comment submission available to the public in this docket.

The NRC cautions you not to include identifying or contact information in comment submissions that you do not want to be publicly disclosed in your comment submission. The NRC will post all comment submissions at http://www.regulations.gov as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

Introduction

The information contained in this semiannual publication is updated to reflect any action that has occurred on rules since publication of the last NRC semiannual regulatory agenda on January 8, 2013 (78 FR 1704). Within each group, the rules are ordered according to the Regulation Identifier Number (RIN).

The information in this Agenda has been updated through April 24, 2013. The date for the next scheduled action under the heading “Timetable” is the date the rule is scheduled to be published in the Federal Register. The date is considered tentative and is not binding on the Commission or its staff. The Agenda is intended to provide the public early notice and opportunity to participate in the NRC rulemaking process. However, the NRC may consider or act on any rulemaking even though it is not included in the Agenda.

The NRC agenda lists all open rulemaking actions. Four rules impact small entities.

Common Prioritization of Rulemaking

The NRC has a process for developing rulemaking budget estimates and determining the relative priorities of rulemaking projects during budget formulation. This process produces a “Common Prioritization of Rulemaking” (CPR). The NRC adds new rules and evaluates rule priorities annually. The CPR process considers four factors and assigns a score to each factor. Those factors include (1) support for the NRC's Strategic Plan goals; (2) support for the Strategic Plan organizational excellence objectives; (3) a governmental factor representing interest to the NRC, Congress, or other governmental bodies; and (4) an external factor representing interest to members of the public, nongovernmental organizations, the nuclear industry, vendors, and suppliers.

The NRC's fall Agenda contains its annual regulatory plan, which includes a statement of the major rules that the Commission expects to publish in the coming fiscal year (FY) and a description of the other significant regulatory priorities from the CPR that the Commission expects to work on during the coming FY and beyond.

Section 610 Periodic Reviews Under the Regulatory Flexibility Act

Section 610 of the Regulatory Flexibility Act (RFA) requires agencies to conduct a review within 10 years of promulgation of those regulations that have or will have a significant economic impact on a substantial number of small entities. The NRC undertakes these reviews to decide whether the rules should be unchanged, amended, or withdrawn. At this time, the NRC does not have any rules that have a significant economic impact on a substantial number of small entities; therefore, the NRC has not included any RFA Section 610 periodic reviews in this edition of the Agenda. A complete listing of NRC regulations that impact small entities and related Small Entity Compliance Guides will be available from the NRC's Web site in the fall of 2013.

Dated at Rockville, Maryland, this 24th day of April 2013.
For the Nuclear Regulatory Commission.
Cindy Bladey,
Chief, Rules, Announcements, and Directives Branch, Division of Administrative Services, Office of Administration.

Nuclear Regulatory Commission—Final Rule Stage
Sequence No. | Title | Regulation Identifier No.
408 | Distribution of Source Material To Exempt Persons and General Licensees and Revision of General License and Exemptions [NRC-2009-0084] | 3150-AH15
409 | Revision of Fee Schedules: Fee Recovery for FY 2013 [NRC-2012-0211] | 3150-AJ19

Nuclear Regulatory Commission—Long-Term Actions
Sequence No. | Title | Regulation Identifier No.
410 | Controlling the Disposition of Solid Materials [NRC-1999-0002] | 3150-AH18

Nuclear Regulatory Commission—Completed Actions
Sequence No. | Title | Regulation Identifier No.
411 | Physical Protection of Byproduct Material [NRC-2008-0120] | 3150-AI12

NUCLEAR REGULATORY COMMISSION (NRC)

Final Rule Stage

408. Distribution of Source Material to Exempt Persons and General Licensees and Revision of General License and Exemptions [NRC-2009-0084]

Legal Authority: 42 U.S.C. 2201; 42 U.S.C. 5841

Abstract: The final rule amends the Commission's regulations to improve the control over the distribution of source material to exempt persons and to general licensees in order to make part 40 more risk-informed. The final rule also governs the licensing of source material by adding specific requirements for licensing of and reporting by distributors of products and materials used by exempt persons and general licensees. Source material is used under general license and under various exemptions from licensing requirements in part 40 for which there is no regulatory mechanism for the Commission to obtain information to fully assess the resultant risks to public health and safety. Although estimates of resultant doses have been made, there is a need for ongoing information on the quantities and types of radioactive material distributed for exempt use and use under general license. Obtaining information on the distribution of source material is particularly difficult because many of the distributors of source material to exempt persons and generally licensed persons are not currently required to hold a license from the Commission. Distributors are often unknown to the Commission. No controls are in place to ensure that products and materials distributed are maintained within the applicable constraints of the exemptions. In addition, the amounts of source material allowed under the general license in section 40.22 could result in exposures above 1 mSv/year (100 mrem/year) to workers at facilities that are not required to meet the requirements of parts 19 and 20. Without knowledge of the identity and location of the general licensees, it would be difficult to enforce restrictions on the general licensees. This rule also addresses Petition for Rulemaking, PRM-40-27 submitted by the State of Colorado and Organization of Agreement States.

Timetable:

Action | Date | FR Cite
NPRM | 07/26/10 | 75 FR 43425
NPRM Comment Period Extended | 11/18/10 | 75 FR 70618
NPRM Comment Period End | 02/15/11 |
Final Rule | 05/29/13 | 78 FR 32310
Final Rule Effective | 08/27/13 |

Regulatory Flexibility Analysis Required: Yes.

Agency Contact: Gary C. Comfort, Jr., Nuclear Regulatory Commission, Office of Federal and State Materials and Environmental Management Programs, Washington, DC 20555-0001, Phone: 301 415-8106, Email: gary.comfort@nrc.gov.

RIN: 3150-AH15

409. Revision of Fee Schedules: Fee Recovery for FY 2013 [NRC-2012-0211]

Legal Authority: 42 U.S.C. 2201; 42 U.S.C. 5841

Abstract: The proposed rule would amend the Commission's licensing, inspection, and annual fees charged to its applicants and licensees. Based on the FY 2013 NRC budget sent to Congress, the NRC's required fee recovery amount for the FY 2013 budget is approximately $924.8 million. After accounting for carryover and billing adjustments, the total amount to be recovered through fees is approximately $925 million.

Timetable:

Action | Date | FR Cite
NPRM | 03/07/13 | 78 FR 14880
NPRM Comment Period End | 04/08/13 |
Final Rule | 07/00/13 |

Regulatory Flexibility Analysis Required: Yes.

Agency Contact: Arlette P. Howard, Nuclear Regulatory Commission, Office of the Chief Financial Officer, Washington, DC 20555-0001, Phone: 301 415-1481, Email: arlette.howard@nrc.gov.

RIN: 3150-AJ19

NUCLEAR REGULATORY COMMISSION (NRC)

Long-Term Actions

410. Controlling the Disposition of Solid Materials [NRC-1999-0002]

Legal Authority: 42 U.S.C. 2201; 42 U.S.C. 5841

Abstract: The NRC staff provided a draft proposed rule package on Controlling the Disposition of Solid Materials to the Commission on March 31, 2005, which the Commission disapproved (ADAMS Accession Number: ML051520285). The rulemaking package included a summary of stakeholder comments (NUREG/CR-6682), Supplement 1, (ADAMS Accession Number: ML003754410). The Commission's decision was based on the fact that the Agency is currently faced with several high priority and complex tasks, that the current approach to review specific cases on an individual basis is fully protective of public health and safety, and that the immediate need for this rule has changed due to the shift in timing for reactor decommissioning. The Commission has deferred action on this rulemaking.

Timetable:

Action | Date | FR Cite
ANPRM | To Be Determined

Regulatory Flexibility Analysis Required: Yes.

Agency Contact: Solomon Sahle, Nuclear Regulatory Commission, Office of Federal and State Materials and Environmental Management Programs, Washington, DC 20555-0001, Phone: 301 415-3781, Email: solomon.sahle@nrc.gov.

RIN: 3150-AH18

NUCLEAR REGULATORY COMMISSION (NRC)

Completed Actions

411. Physical Protection of Byproduct Material [NRC-2008-0120]

Legal Authority: 42 U.S.C. 2201; 42 U.S.C. 5841

Abstract: The final rule amends the Commission's regulations to put in place security requirements for the use of Category 1 and Category 2 quantities of radioactive material. The objective is to ensure that effective security measures are in place to prevent the dispersion of radioactive material for malevolent purposes. The final amendment also addresses background investigations and access controls, enhanced security for use, and transportation security for Category 1 and Category 2 quantities of radioactive material. This rulemaking subsumes RIN 3150-AI56, “Requirements for Fingerprinting and Criminal History Record Checks for Unescorted Access to Radioactive Material and Other Property (part 37).”

Completed:

Reason | Date | FR Cite
Final Rule | 03/19/13 | 78 FR 16922
Final Rule Effective | 05/20/13 |

Regulatory Flexibility Analysis Required: Yes.

Agency Contact: Merri L. Horn, Phone: 301 415-8126, Email: merri.horn@nrc.gov.

RIN: 3150-AI12

[FR Doc. 2013-17091 Filed 7-22-13; 8:45 am]

BILLING CODE 7590-01-P